DEPARTMENT OF HEALTH AND HUMAN SERVICES

Centers for Disease Control and Prevention

Board of Scientific Counselors, National Center for Infectious Diseases: Addendum

Addendum

CDC is publishing this notice as a means of further explanation of the agenda item entitled, “Transfer of Interstate Quarantine Authority.” Published in the Federal Register, April 6, 2000, Volume 65, Number 67, page 18108-18109. This item engenders a discussion of the list of diseases for which individuals may be apprehended, detained, or conditionally released pursuant to the quarantine authorities provided in the Public Health Service Act.

In accordance with section 361(b) of the Public Health Service Act (42 U.S.C. 264(b)), the Board will consider and make recommendations regarding a list of diseases for which individuals may be apprehended, detained, or conditionally released in order to prevent the introduction, transmission or spread of such communicable disease from foreign countries into the United States or possession or from one state or possesion into another.

Name: Board of Scientific Counselors, National Center for Infectious Diseases (NCID).

Times and Dates: 9 a.m.-5:30 p.m., May 4, 2000. 8:30 a.m.-2:30 p.m., May 5, 2000.

Place: CDC, Conference Room Building 17, 1600 Clifton Road, Atlanta, Georgia 30333.

Status: Open to the public, limited only by the space available.

Purpose: The Board of Scientific Counselors, NCID, provides advice and guidance to the Director, CDC, and Director, NCID, in the following areas: Program goals and objectives; strategies; program organization and resources for infectious disease prevention and control; and program priorities.

Matters To Be Discussed: Agenda items will include:

1. NCID Update.

2. CDC Facilities Master Plan.

3. Laboratory Response Capacity.

4. Integrating Surveillance Systems—NEDSS.

5. Current Issues in Vaccine Development.

6. Tour of New Facility: Building 17.

7. Discussions.

8. Improving Communications.

9. Program Update: Mycotic Diseases.

10. Transfer of Interstate Quarantine Authority.

11. Late Breaker: Current Scientific Issues/Events.

12. Discussions and Recommendations.

Other agenda items include announcements/introductions; follow-up on actions recommended by the Board December 1999; consideration of future directions, goals, and recommendations.

Agenda items are subject to change as priorities dictate.

Written comments are welcome and should be received by the contact person listed below prior to the opening of the meeting.

Contact Person for More Information: Diane S. Holley, Office of the Director, NCID, CDC, M/S C-20, 1600 Clifton Road, NE, Atlanta, Georgia 30333, telephone 404/639-0078.

The Director, Management Analysis and Services office has been delegated the authority to sign Federal Register notices pertaining to announcements of meetings and other committee management activities, for both the Centers for Disease Control and Prevention and the Agency for Toxic Substances and Disease Registry.

Dated: April 24, 2000.
Carolyn J. Russell,
Director, Management Analysis and Services Office, Centers for Disease Control and Prevention.

[FR Doc. 00-10681 Filed 4-27-00; 8:45 am]

BILLING CODE 4163-18-P